INTERNATIONAL TRADE COMMISSION

[Investigation Nos. 701-TA-592 and 731-TA-1400 (Review)]

Plastic Decorative Ribbon From China

Determinations

On the basis of the record ¹ developed in the subject five-year reviews, the United States International Trade Commission (“Commission”) determines, pursuant to the Tariff Act of 1930 (“the Act”), that revocation of the antidumping and countervailing duty orders on plastic decorative ribbon from China would be likely to lead to continuation or recurrence of material injury to an industry in the United States within a reasonably foreseeable time.²

¹ The record is defined in § 207.2(f) of the Commission's Rules of Practice and Procedure (19 CFR 207.2(f)).

² Commissioner Karpel did not participate.

Background

The Commission instituted these reviews on February 1, 2024 (89 FR 6540, February 1, 2024) and determined on May 6, 2024 that it would conduct expedited reviews (89 FR 56902, July 11, 2024).

The Commission made these determinations pursuant to section 751(c) of the Act (19 U.S.C. 1675(c)). It completed and filed its determinations in these reviews on September 6, 2024. The views of the Commission are contained in USITC Publication 5541 (September 2024), entitled Plastic Decorative Ribbon from China: Investigation Nos. 701-TA-592 and 731 TA 1400 (Review).

By order of the Commission.
Issued: September 6, 2024.
Sharon Bellamy,
Supervisory Hearings and Information Officer.

[FR Doc. 2024-20601 Filed 9-10-24; 8:45 am]

BILLING CODE 7020-02-P